COMMISSION ON CIVIL RIGHTS

Correction: Notice of Public Meeting of the Arizona Advisory Committee

AGENCY: U.S. Commission on Civil Rights.

ACTION: Correction: Announcement of meeting.

SUMMARY: The Commission on Civil Rights published a document February 23, 2018, announcing an upcoming Arizona Advisory Committee. The document contained incorrect public access to the meeting.

FOR FURTHER INFORMATION CONTACT: Ana Victoria Fortes, DFO, at afortes@usccr.gov, 213-894-3437.

Correction: In the Federal Register of February 23, 2018, in FR Doc. 2018-03705, on page 8046, in the first, second and third columns, correct the Dates caption by deleting the Public Call Information. The meeting will be in person only.

Dated: February 27, 2018.
David Mussatt,
Supervisory Chief, Regional Programs Unit.

[FR Doc. 2018-04353 Filed 3-2-18; 8:45 am]

BILLING CODE P